INTERNATIONAL TRADE COMMISSION

[Inv. No. 337-TA-525]

In the Matter of Certain Semiconductor Devices and Products Containing Same; Notice of a Commission Determination Not To Review an Initial Determination Terminating the Investigation on the Basis of a Settlement Agreement

AGENCY: International Trade Commission.

ACTION: Notice.

SUMMARY: Notice is hereby given that the U.S. International Trade Commission has determined not to review the presiding administrative law judge's (“ALJ's”) initial determination (“ID”) granting a joint motion to terminate the above-captioned investigation on the basis of a settlement agreement.

FOR FURTHER INFORMATION CONTACT: Timothy P. Monaghan, Esq., Office of the General Counsel, U.S. International Trade Commission, 500 E Street, SW., Washington, DC 20436, telephone 202-205-3152. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On September 21, 2004, the Commission instituted this investigation, which concerns allegations of unfair acts in violation of section 337 of the Tariff Act of 1930 in the importation and sale of certain semiconductor devices and products containing same by reason of infringement of certain claims U.S. Patent Nos. 6,121,091; 6,251,795; and 6,235,653. 69 FR 56459 (Sept. 21, 2005). The complainants are Taiwan Semiconductor Manufacturing Company, Ltd., of Hsinchu, Taiwan; TSMC North America, of San Jose, California; and WaferTech, L.L.C., of Camas, Washington, and the respondents are Semiconductor Manufacturing International Corp., of Pudong New Area, Shanghai, China; Semiconductor Manufacturing International Corporation, of Pudong New Area, Shanghai, China, and SMIC Americas, of Fremont, California.

On February 22, 2005, complainants and respondents filed a joint motion to terminate the investigation on the basis of a settlement agreement. The Commission investigative attorney filed a response in support of the joint motion.

On March 14, 2004, the ALJ issued the subject ID (Order No. 9) granting the joint motion to terminate.

No party filed a petition to review the subject ID.

The authority for the Commission's determination is contained in section 337 of the Tariff Act of 1930, as amended (19 U.S.C. 1337), and in section 210.42 of the Commission's Rules of Practice and Procedure (19 CFR 210.42).

By order of the Commission.
Issued: April 6, 2005.
Marilyn R. Abbott,
Secretary to the Commission.

[FR Doc. 05-7166 Filed 4-8-05; 8:45 am]

BILLING CODE 7020-02-P